DEPARTMENT OF THE INTERIOR

Bureau of Land Management

[LLORV00000. L10200000. DF0000. LXSSH1050000.18X.HAG 18-0031]

Notice of Public Meetings for the Southeast Oregon Resource Advisory Council's Lands With Wilderness Characteristics Subcommittee

AGENCY: Bureau of Land Management, Interior.

ACTION: Notice of Public Meeting.

SUMMARY: In accordance with the Federal Land Policy and Management Act of 1976 and the Federal Advisory Committee Act of 1972, the U.S. Department of the Interior, Bureau of Land Management (BLM), Southeast Oregon Resource Advisory Council (RAC) Lands with Wilderness Characteristics (LWC) Subcommittee will meet as indicated below.

DATES: The Southeast Oregon RAC's LWCSubcommittee will meet via teleconference Wednesday, December 20, 2017, from 1 p.m. to 4 p.m. Mountain Time. There will be a public comment period from 3:15 p.m. to 3:45 p.m.

ADDRESSES: The LWC subcommittee meeting will be held via teleconference. The telephone conference line number for the meeting is 1-866-524-6456, Participant Code: 608605#.

FOR FURTHER INFORMATION CONTACT: Larisa Bogardus, Public Affairs Officer, 1301 S G Street, Lakeview, Oregon 97630; 541-947-6237; lbogardus@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member Southeast Oregon RAC was chartered and appointed by the Secretary of the Interior. The RAC members' diverse perspectives are represented in commodity, conservation, and general interests. They provide advice to BLM and Forest Service resource managers regarding management plans and proposed resource actions on public land in southeast Oregon. Agenda items include discussing possible management approaches for areas identified by BLM as LWC for a subsequent recommendation to the full Southeast Oregon RAC as part of the Vale and Lakeview Districts' respective Resource Management Plan Amendment(s) process. A final agenda will be posted online at https://www.blm.gov/get-involved/resource-advisory-council/near-you/oregon-washington/southeast-oregon-rac at least one week prior to each teleconference.

All meetings are open to the public in their entirety. Information to be distributed to the LWC Subcommittee or the Southeast Oregon RAC is requested prior to the start of each meeting.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Shane DeForest,
Vale District Manager.

[FR Doc. 2017-26390 Filed 12-6-17; 8:45 am]

BILLING CODE 4310-33-P